DEPARTMENT OF COMMERCE

National Institute of Standards and Technology

National Conference on Weights and Measures 94th Annual Meeting

AGENCY: National Institute of Standards and Technology, Commerce.

ACTION: Meeting notice.

SUMMARY: The Annual Meeting of the 94th National Conference on Weights and Measures, Incorporated (NCWM) will be held July 12 to 16, 2009, in San Antonio, Texas. Publication of this notice on the NCWM's behalf is undertaken as a public service; NIST does not endorse, approve, or recommend any of the proposals contained in this notice or in the publications of the NCWM mentioned below. The meetings are open to the public but registration is required. Registration information is stated in the FOR FURTHER INFORMATION CONTACT section below.

DATES: The meeting will be held on July 12-16, 2009.

ADDRESSES: The meeting will be held at the Marriott Plaza, 555 S. Alamo Street, San Antonio, Texas.

FOR FURTHER INFORMATION CONTACT: Carol Hockert, Chief, NIST, Weights and Measures Division, 100 Bureau Drive, Stop 2600, Gaithersburg, MD 20899-2600 or by telephone (301) 975-5507 or at Carol.Hockert@nist.gov. Please see the NCWM Publication 16, which contains detailed meeting agendas and registration information at http://www.ncwm.net on the Internet.

SUPPLEMENTARY INFORMATION: The NCWM is an organization of weights and measures officials of the States, counties, and cities of the United States, Federal agencies, and private sector representatives. These meetings bring together government officials and representatives of business, industry, trade associations, and consumer organizations on subjects related to the field of weights and measures technology, administration, and enforcement. NIST participates to promote uniformity among the States in laws, regulations, methods, and testing equipment that comprise the regulatory control of commercial weighing and measuring devices and other practices used in trade and commerce.

The following are brief descriptions of some of the agenda items that will be considered along with other issues at the meeting. Comments will be taken on these and other issues during public comment sessions and many items will be considered for NCWM adoption. At this stage, the items are proposals. The Committees may also accept comments and where they will finalize recommendations for NCWM consideration and possible adoption during its voting sessions on July 15 or 16, 2009. The Committees may withdraw or carry over items that need additional development.

The Specifications and Tolerances Committee (S&T Committee) will consider proposed amendments to NIST Handbook 44, “Specifications, Tolerances, and other Technical Requirements for Weighing and Measuring Devices (NIST Handbook 44).” Those items address weighing and measuring devices used in commercial applications, that is, devices that are normally used to buy from or sell to the public or used for determining the quantity of product sold among businesses.

Issues on the agenda of the NCWM Laws and Regulations Committee (L&R Committee) relate to proposals to amend NIST Handbook 130, “Uniform Laws and Regulations in the area of legal metrology and engine fuel quality” and NIST Handbook 133 “Checking the Net Contents of Packaged Goods.”

This notice contains information about significant items on the NCWM Committee agendas, but does not include all agenda items. As a result, the following items are not consecutively numbered. A copy of the complete agenda along with detailed background information is available at http://www.ncwm.net/events/index.cfm?fuseaction=meeting_archives.

Specifications and Tolerances Committee

The following items are proposals to amend NIST Handbook 44:

Scales Code

Item 320-1A and B—the S&T Committee is recommending adoption of several amendments to the current specifications for the mechanisms used on scales to set zero and tare values. Revisions to the definition for a tare mechanism are also proposed for the purpose of clarifying the requirements and increasing uniformity in their application.

Liquid-Measuring Devices Code

Item 330-1—Temperature Compensation for Liquid-Measuring Devices Code: This is not a voting item at this meeting but the S&T Committee will accept comments on a proposal to add provisions to Handbook 44 to allow retail motor fuel dispensers to be equipped with the automatic means to deliver product with the volume adjusted to a reference temperature. (See also Item 232 under the L&R Committee which is presented below.)

Item 336—Water Meters: The S&T Committee has recommended adoption of Item 336-1, which includes proposed amendments to specifications related to the design of water meters and will accept comments on other proposals under this section that address meter repeatability, test procedures, and drafts (i.e., the volumes used in testing and number of measurements made during an examination of a meter).

The Laws and Regulations Committee

The following items are proposals to amend NIST Handbook 130:

Method of Sale of Commodities Regulation

Item 232—Automatic Temperature Compensation (ATC)

The L&R Committee will offer two ATC proposals for adoption. Both proposals require consumers to be notified that the fuel quantity is being temperature compensated so they can make value comparisons between sellers, and it will impose other controls on the use of ATC by sellers.

Item 232-1 would allow the voluntary use of automatic temperature compensation in the sales of engine fuels at retail and other levels of trade beginning January 1, 2010, but will require all fuels to be sold, offered, or exposed for sale on a temperature compensated basis by January 1, 2020.

Item 232-2 would allow sellers to use automatic temperature compensation in sales of engine fuels at retail and other levels of trade on a voluntary basis beginning January 1, 2010, but does not include a requirement that all fuels be sold, offered, or exposed for sale on a temperature compensated basis by any deadline.

Note: If Item 232-1 is adopted by the NCWM Item 232-2 will be withdrawn. However, if Item 232-1 is not adopted by the NCWM, the committee will present Item 232-2 to the NCWM for consideration.

Item 232-3—Wood Flavoring Chips: The L&R Committee is recommending adoption of an amendment to the current method of sale regulation on flavoring chips by adding guidance on the appropriate units of measure to be used on small packages.

Item 270-4—Method of Sale and Engine Fuel Quality Requirements for Hydrogen: The L&R Committee will accept comments on a proposal to establish a uniform method of sale and quality standards for hydrogen when it is offered for sale at the retail level as a vehicle fuel.

The following item is a proposal to amend NIST Handbook 133:

Item 260-1—The L&R Committee will consider several revisions to NIST Handbook 133 “Checking the Net Contents of Packaged Goods” to provide guidance for making allowances for moisture loss from packaged goods and to notify inspectors not to use the wet tare test procedures when verifying the net quantity of contents of packages of meat and poultry that bear a seal of inspection from the U.S. Department of Agriculture (USDA) Food Safety and Inspection Service. The provision regarding wet tare is needed because USDA adopted, except for the wet tare procedure and other handbook sections not relevant to meat and poultry products, the 4th Edition of the Handbook 133 in September 2008. Other amendments have been proposed that will correct errors and omissions that have been identified since NIST Handbook 133 was last published in 2005.

Dated: June 4, 2009.
Patrick Gallagher,
Deputy Director.

[FR Doc. E9-13869 Filed 6-11-09; 8:45 am]

BILLING CODE 3510-13-P